DEPARTMENT OF EDUCATION

Notice of Proposed Information Collection Requests

AGENCY: Department of Education.

SUMMARY: The Acting Leader, Information Management Case Services Team, Regulatory Information Management Services, Office of Management, invites comments on the proposed information collection requests as required by the Paperwork Reduction Act of 1995.

DATES: Interested persons are invited to submit comments on or before June 11, 2007.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Acting Leader, Information Management Case Services Team, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: April 6, 2007.
James Hyler,
Acting Leader, Information Management Case Services Team, Regulatory Information Management Services, Office of Management.

Office of Elementary and Secondary Education

Type of Review: New.

Title: Title I—Improving the Academic Achievement of the Disadvantaged; Individuals with Disabilities Education Act (IDEA)—Assistance to States for the Education of Children with Disabilities.

Frequency: Annually.

Affected Public: State, Local, or Tribal government, SEAs, or LEAs.

Reporting and Recordkeeping Hour Burden:

Responses: 60.

Burden Hours: 4,019.

Abstract: The Secretary has amended the regulations governing programs administered under Title I of the Elementary and Secondary Education Act of 1965 (ESEA), as amended by the No Child Left Behind Act of 2001 (NCLB), and the regulations governing programs under Part B of the Individuals with Disabilities Education Act (IDEA). The regulations implement statutory provisions regarding State educational agency (SEA), local educational agency (LEA), and school accountability for the academic achievement of students with disabilities. The information collections associated with these regulations relate to three changes in activities already required under Title I, Part A of the ESEA for SEAs that voluntarily choose to take advantage of the additional flexibility offered by the amended regulations. This flexibility is for SEAs that choose to develop modified academic achievement standards and assessments that measure achievement based on those standards for a small group of students with disabilities. The new regulations also affect the information collections for the IDEA as the form to be used for reporting school year 2007-08 assessment for students with disabilities has been revised. It now includes one additional category for students with disabilities who are assessed through an alternate assessment based on modified academic achievement standards.

Requests for copies of the proposed information collection request may be accessed from http://edicsweb.ed.gov, by selecting the “Browse Pending Collections” link and by clicking on link number 3308. When you access the information collection, click on “Download Attachments” to view. Written requests for information should be addressed to U.S. Department of Education, 400 Maryland Avenue, SW., Potomac Center, 9th Floor, Washington, DC 20202-4700. Requests may also be electronically mailed to

or faxed to 202-245-6623. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E7-6842 Filed 4-10-07; 8:45 am]

BILLING CODE 4000-01-P